DEPARTMENT OF THE TREASURY

United States Mint

Notification of Resumption of Sales of Previously Available Products

ACTION: Notification of Resumption of Sales of Previously Available Products.

SUMMARY: The United States Mint is setting prices and will resume selling previously available products.

Pursuant to the authority that 31 U.S.C. 5111(a), 5112 & 5132 grant the Secretary of the Treasury to prepare and distribute numismatic items, the United States Mint will resume selling previously available products.

The United States Mint is setting the price of these coins in accordance with 31 U.S.C. 9701(b)(2)(B).

Effective November 15, 2008, the United States Mint will commence selling the following previously available products according to the following price schedule:

Product | Last chance price
Annual Sets
2007 UNITED STATES MINT PROOF SET® | $26.95
2007 UNITED STATES MINT 50 STATE QUARTERS PROOF SET™ | 13.95
2004 UNITED STATES MINT UNCIRCULATED COIN SET® | 16.95
2006 UNITED STATES MINT UNCIRCULATED COIN SET® | 16.95
2007 UNITED STATES MINT UNCIRCULATED COIN SET® | 22.95
2007 UNITED STATES MINT SILVER PROOF SET™ | 44.95
2007 UNITED STATES MINT 50 STATE QUARTERS SILVER PROOF SET™ | 25.95
Special Sets
50 STATE QUARTERS® AND EURO COIN COLLECTION | 49.95
OFFICIAL COIN COLLECTING STARTER KIT | 19.50
50 State Quarters® Bags & Rolls
2004 WISCONSIN TWO-ROLL SET | 32.95
2005 MINNESOTA TWO-ROLL SET | 32.95
2005 MINNESOTA 1,000-COIN BAG, PHILADELPHIA | 309.95
2005 MINNESOTA 1,000-COIN BAG, DENVER | 309.95
2005 OREGON 1,000-COIN BAG, DENVER | 309.95
2006 COLORADO 100-COIN BAG, PHILADELPHIA | 32.95
2006 NEBRASKA 1,000-COIN BAG, PHILADELPHIA | 309.95
2006 COLORADO 1,000-COIN BAG, PHILADELPHIA | 309.95
2006 NEBRASKA 100-COIN BAG, DENVER | 32.95
2006 NORTH DAKOTA 100-COIN BAG, DENVER | 32.95
2006 SOUTH DAKOTA 100-COIN BAG, DENVER | 32.95
2006 NEBRASKA 1,000-COIN BAG, DENVER | 309.95
2006 COLORADO 1,000-COIN BAG, DENVER | 309.95
2006 NORTH DAKOTA 1,000-COIN BAG, DENVER | 309.95
2007 WYOMING 100-COIN BAG, PHILADELPHIA | 32.95
2007 MONTANA 1,000-COIN BAG, PHILADELPHIA | 309.95
2007 WYOMING 1,000-COIN BAG, PHILADELPHIA | 309.95
2007 UTAH 1,000-COIN BAG, PHILADELPHIA | 309.95
2007 WYOMING 100-COIN BAG, DENVER | 32.95
2007 WYOMING 1,000-COIN BAG, DENVER | 309.95
2007 UTAH 1,000-COIN BAG, DENVER | 309.95
2007 UTAH TWO-ROLL SET | 32.95
2008 OKLAHOMA 100-COIN BAG, PHILADELPHIA | 32.95
2008 NEW MEXICO 100-COIN BAG, PHILADELPHIA | 32.95
2008 ARIZONA 100-COIN BAG, PHILADELPHIA | 32.95
2008 OKLAHOMA 1,000-COIN BAG, PHILADELPHIA | 309.95
2008 NEW MEXICO 1,000-COIN BAG, PHILADELPHIA | 309.95
2008 ARIZONA 1,000-COIN BAG, PHILADELPHIA | 309.95
2008 OKLAHOMA TWO-ROLL SET | 32.95
2008 NEW MEXICO TWO-ROLL SET | 32.95
2008 ARIZONA TWO-ROLL SET | 32.95
2008 OKLAHOMA 100-COIN BAG, DENVER | 32.95
2008 NEW MEXICO 100-COIN BAG, DENVER | 32.95
2008 ARIZONA 100-COIN BAG, DENVER | 32.95
2008 OKLAHOMA 1,000-COIN BAG, DENVER | 309.95
2008 NEW MEXICO 1,000-COIN BAG, DENVER | 309.95
2008 ARIZONA 1,000-COIN BAG, DENVER | 309.95
Other Bags & Rolls
2001 SACAGAWEA GOLDEN DOLLAR 25-COIN ROLL, PHILADELPHIA | 35.95
2001 KENNEDY HALF DOLLAR 200-COIN BAG | 130.95
2001 KENNEDY HALF-DOLLAR 2-ROLL SET | 32.95
2002 GOLDEN DOLLAR 2000-COIN BAG, PHILADELPHIA | 2,190.00
2002 GOLDEN DOLLAR 2000-COIN BAG, DENVER | 2,190.00
2003 JEFFERSON NICKEL 2-ROLL SET | 8.95
2004 SACAGAWEA GOLDEN DOLLAR 2000-COIN BAG, DENVER | 2,490.00
2005 OCEAN IN VIEW NICKEL 1000-COIN BAG, PHILADELPHIA | 79.95
2005 OCEAN IN VIEW NICKEL 1000-COIN BAG, DENVER | 79.95
2005 SACAGAWEA GOLDEN DOLLAR 250-COIN BAG, PHILADELPHIA | 319.95
50 State Quarters® Official First Day Coin Covers
1999 NEW JERSEY OFFICIAL FIRST DAY COIN COVER | 14.95
1999 GEORGIA OFFICIAL FIRST DAY COIN COVER | 14.95
1999 CONNECTICUT OFFICIAL FIRST DAY COIN COVER | 14.95
2000 SOUTH CAROLINA OFFICIAL FIRST DAY COIN COVER | 14.95
2000 NEW HAMPSHIRE OFFICIAL FIRST DAY COIN COVER | 14.95
2000 VIRGINIA OFFICIAL FIRST DAY COIN COVER | 14.95
2001 NEW YORK OFFICIAL FIRST DAY COIN COVER | 14.95
2001 NORTH CAROLINA OFFICIAL FIRST DAY COIN COVER | 14.95
2001 RHODE ISLAND OFFICIAL FIRST DAY COIN COVER | 14.95
2001 VERMONT OFFICIAL FIRST DAY COIN COVER | 14.95
2001 KENTUCKY OFFICIAL FIRST DAY COIN COVER | 14.95
2002 TENNESSEE OFFICIAL FIRST DAY COIN COVER | 14.95
2002 OHIO OFFICIAL FIRST DAY COIN COVER | 14.95
2002 LOUISIANA OFFICIAL FIRST DAY COIN COVER | 14.95
2002 INDIANA OFFICIAL FIRST DAY COIN COVER | 14.95
2002 MISSISSIPPI OFFICIAL FIRST DAY COIN COVER | 14.95
2003 ILLINOIS OFFICIAL FIRST DAY COIN COVER | 14.95
2003 ALABAMA OFFICIAL FIRST DAY COIN COVER | 14.95
2003 MAINE OFFICIAL FIRST DAY COIN COVER | 14.95
2003 MISSOURI OFFICIAL FIRST DAY COIN COVER | 14.95
2003 ARKANSAS OFFICIAL FIRST DAY COIN COVER | 14.95
2004 MICHIGAN OFFICIAL FIRST DAY COIN COVER | 14.95
2004 FLORIDA OFFICIAL FIRST DAY COIN COVER | 14.95
2004 TEXAS OFFICIAL FIRST DAY COIN COVER | 14.95
2004 IOWA OFFICIAL FIRST DAY COIN COVER | 14.95
2004 WISCONSIN OFFICIAL FIRST DAY COIN COVER | 14.95
2005 CALIFORNIA OFFICIAL FIRST DAY COIN COVER | 14.95
2005 MINNESOTA OFFICIAL FIRST DAY COIN COVER | 14.95
2005 OREGON OFFICIAL FIRST DAY COIN COVER | 14.95
2005 KANSAS OFFICIAL FIRST DAY COIN COVER | 14.95
2005 WEST VIRGINIA OFFICIAL FIRST DAY COIN COVER | 14.95
2006 NEVADA OFFICIAL FIRST DAY COIN COVER | 14.95
2006 NEBRASKA OFFICIAL FIRST DAY COIN COVER | 14.95
2006 COLORADO OFFICIAL FIRST DAY COIN COVER | 14.95
2006 NORTH DAKOTA OFFICIAL FIRST DAY COIN COVER | 14.95
2006 SOUTH DAKOTA OFFICIAL FIRST DAY COIN COVER | 14.95
2007 MONTANA OFFICIAL FIRST DAY COIN COVER | 14.95
2007 WASHINGTON OFFICIAL FIRST DAY COIN COVER | 14.95
2007 IDAHO OFFICIAL FIRST DAY COIN COVER | 14.95
2007 WYOMING OFFICIAL FIRST DAY COIN COVER | 14.95
2007 UTAH OFFICAL FIRST DAY COIN COVER | 14.95
American Presidency 1 Coin Covers
2007 GEORGE WASHINGTON 1 COIN COVER | 14.95
2007 JOHN ADAMS 1 COIN COVER | 14.95
2007 THOMAS JEFFERSON 1 COIN COVER | 14.95
2007 JAMES MADISON PRES 1 COIN COVER | 14.95
50 State Quarters® Coin & Die Sets
2002 TENNESSEE COIN AND DIE SET—(D) | 34.95
2007 WASHINGTON COIN & DIE SET—(P) | 34.95
2007 MONTANA COIN & DIE SET—(D) | 34.95
2007 WYOMING COIN & DIE SET—(D) | 34.95
2007 MONTANA COIN & DIE SET—(P) | 34.95
2007 IDAHO COIN & DIE SET—(D) | 34.95
2007 WYOMING COIN & DIE SET—(P) | 34.95
2007 IDAHO COIN & DIE SET—(P) | 34.95
2007 UTAH COIN & DIE SET—(D) | 34.95
2007 NEBRASKA COIN & DIE SET—(D) | 34.95
2006 NEBRASKA COIN & DIE SET (P) | 34.95
2006 COLORADO COIN & DIE SET—(P) | 34.95
2006 NORTH DAKOTA COIN & DIE SET—(D) | 34.95
2006 NORTH DAKOTA COIN & DIE SET—(P) | 34.95
2006 SOUTH DAKOTA COIN & DIE SET—(D) | 34.95
2006 SOUTH DAKOTA COIN & DIE SET—(P) | 34.95
2005 OREGON COIN & DIE SET—(P) | 34.95
2004 IOWA COIN & DIE SET—(P) | 34.95
2003 MAINE COIN & DIE SET—(D) | 34.95
2001 NORTH CAROLINA COIN & DIE SET—(P) | 34.95
2001 RHODE ISLAND COIN & DIE SET—D | 34.95
50 State Quarters® Collectible Spoons
2004 IOWA COLLECTOR'S SPOON | 7.95
2007 IDAHO COLLECTOR'S SPOON | 7.95
2007 WYOMING COLLECTOR'S SPOON | 7.95
2008 OKLAHOMA COLLECTOR'S SPOON | 7.95
2008 NEW MEXICO COLLECTOR'S SPOON | 7.95
2008 ARIZONA COLLECTOR'S SPOON | 7.95
2005 WEST VIRGINIA COLLECTOR'S SPOON | 7.95
2006 NEVADA COLLECTOR'S SPOON | 7.95
2006 COLORADO COLLECTOR'S SPOON | 7.95
2006 NEBRASKA COLLECTOR'S SPOON | 7.95
2006 NORTH DAKOTA COLLECTOR'S SPOON | 7.95
2006 SOUTH DAKOTA COLLECTOR'S SPOON | 7.95
2007 WASHINGTON COLLECTOR'S SPOON | 7.95
2007 MONTANA COLLECTOR'S SPOON | 7.95
2007 UTAH COLLECTOR'S SPOON | 7.95
50 State Quarters® Greetings from America Series
1999 50 STATE QUARTERS® GREETINGS FROM AMERICA STATE CARD SET | 27.99
1999 50 STATE QUARTERS® GREETINGS FROM AMERICA PORTFOLIO | 29.99
2000 50 STATE QUARTERS® GREETINGS FROM AMERICA STATE CARD SET | 27.99
2000 50 STATE QUARTERS® GREETINGS FROM AMERICA PORTFOLIO | 29.99
2001 50 STATE QUARTERS® GREETINGS FROM AMERICA STATE CARD SET | 27.99
2001 50 STATE QUARTERS® GREETINGS FROM AMERICA PORTFOLIO | 29.99
2002 50 STATE QUARTERS® GREETINGS FROM AMERICA STATE CARD SET | 27.99
2002 50 STATE QUARTERS® GREETINGS FROM AMERICA PORTFOLIO | 29.99
2003 50 STATE QUARTERS® GREETINGS FROM AMERICA STATE CARD SET | 27.99
2003 50 STATE QUARTERS® GREETINGS FROM AMERICA PORTFOLIO | 29.99
2004 50 STATE QUARTERS® GREETINGS FROM AMERICA STATE CARD SET | 27.99
2004 50 STATE QUARTERS® GREETINGS FROM AMERICA PORTFOLIO | 29.99
2005 50 STATE QUARTERS® GREETINGS FROM AMERICA PORTFOLIO | 29.99
2005 50 STATE QUARTERS® GREETINGS FROM AMERICA STATE CARD SET | 27.99
2006 50 STATE QUARTERS® GREETINGS FROM AMERICA PORTFOLIO | 29.99
2006 50 STATE QUARTERS® GREETINGS FROM AMERICA STATE CARD SET | 27.99
2007 50 STATE QUARTERS® GREETINGS FROM AMERICA PORTFOLIO | 29.99
2007 50 STATE QUARTERS® GREETINGS FROM AMERICA STATE CARD SET | 27.99
50 STATE QUARTERS® GREETINGS FROM AMERICA PORTFOLIO ALBUM | 29.95
50 STATE QUARTERS® GREETINGS FROM AMERICA STATE CARD SET ALBUM | 29.95
Westward Journey Nickel Series ™
2004 WESTWARD JOURNEY NICKEL SERIES™ COIN SET | 12.95
2006 WESTWARD JOURNEY NICKEL SERIES™ COIN SET | 6.50

Sales of the products above will continue through December 19, 2008, or until inventories are depleted. Full terms and conditions for sales appear on the United States Mint catalog Web site at http://www.usmint.gov/catalog.

FOR FURTHER INFORMATION CONTACT: Andrew Brunhart, Deputy Director; United States Mint; 801 Ninth Street, NW.; Washington, DC 20220; or call 202-354-7500.

Dated: November 10, 2008.
Edmund C. Moy,
Director for United States Mint.

[FR Doc. E8-27145 Filed 11-14-08; 8:45 am]

BILLING CODE 4810-02-P